DEPARTMENT OF AGRICULTURE

Forest Service

Columbia County Resource Advisory Committee

AGENCY: Forest Service, USDA.

ACTION: Notice of meeting.

SUMMARY: Pursuant to the authorities in the Federal Advisory Committees Act (Pub. L. 92-463), the Columbia County Resource Advisory Committee (RAC) will meet on March 18, 2002 in Dayton, Washington. The purpose of the meeting is to meet as a Committee for the first time and to discuss the selection of Title II projects under Public Law 106-393, H.R. 2389, the Secure Rural Schools and Community Self-Determination Act of 2000, also called the “Payments to States” Act.

DATES: The meeting will be held on March 18, 2002 from 7 p.m. to 9 p.m.

ADDRESSES: The meeting will be held at the Youth Building located at the Columbia County Fairgrounds, Dayton, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This will be the second meeting of the committee, and will focus on discussing Title II proposed projects. The meeting is open to the public. Public input opportunity will be provided and individuals will have the opportunity to address the committee at that time.

Dated: February 26, 2002.
Jeff D. Blackwood,
Forest Supervisor.

[FR Doc. 02-5253 Filed 3-5-02; 8:45 am]

BILLING CODE 3410-BH-M